DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: Current Industrial Reports (Wave II Mandatory).

Form Number(s): M311J, M311L, M313N, M313P, MQ314X, MQ315A, MQ333W, MA313F, MA313K, MA314Q, MA316A, MA321T, MA325G, MA333L, MA333P, MA334M, MA334Q, MA334S, MA335E, and MA335J.

Agency Approval Number: 0607-0395.

Type of Request: Revision of a currently approved collection.

Burden: 16,954 hours.

Number of Respondents: 11,887.

Avg Hours Per Response: 1.43 hours.

Needs and Uses: The Census Bureau conducts a series of monthly, quarterly, and annual surveys as part of the Current Industrial Reports (CIR) program. The CIR program focuses primarily on the quantity and value of shipments of particular products and occasionally with data on production and inventories; unfilled orders, receipts, stocks and consumption; and comparative data on domestic production, exports, and imports of the products they cover. Government agencies, business firms, trade associations, and private research and consulting organizations use these data to make trade policy, production, and investment decisions.

Due to the large number of surveys conducted in the CIR program, for clearance purposes, the CIR surveys are divided into “waves.” There are three waves and each wave contains a voluntary and mandatory clearance package, making 6 separate clearances. Each year, one wave (2 clearance packages) is submitted for review. In this request, we are discontinuing MA325B, “Inorganic Fertilizer Materials and Related Products,” and MA325C, “Industrial Gases” due to budgetary reductions.

Affected Public: Business or other for-profit organizations.

Frequency: Quarterly.

Respondent's Obligation: Mandatory.

Legal Authority: Title 13, United States Code, Sections 61, 81, 182, 224, and 225.

OMB Desk Officer: Susan Schechter, (202) 395-5103.

Copies of the above information collection proposal can be obtained by calling or writing Madeleine Clayton, Departmental Paperwork Clearance Officer, (202)482-3129, Department of Commerce, room 6086, 14th and Constitution Avenue, NW, Washington, DC 20230 (or via the Internet at mclayton@doc.gov).

Written comments and recommendations for the proposed information collection should be sent within 30 days of publication of this notice to Susan Schechter, OMB Desk Officer, room 10201, New Executive Office Building, Washington, DC 20503.

Dated: July 6, 2001.
Madeleine Clayton,
Departmental Paperwork Clearance Officer, Office of the Chief Information Officer.

[FR Doc. 01-17339 Filed 7-10-01; 8:45 am]

BILLING CODE 3510-07-P